DEPARTMENT OF AGRICULTURE

Forest Service

Santa Fe National Forest; New Mexico; Amendment of the Land Management Plan for Santa Fe National Forest

AGENCY: Forest Service, USDA.

ACTION: Notice of Forest Plan Amendment approval.

SUMMARY: James Melonas, the Forest Supervisor for the Santa Fe National Forest, Southwest Region, signed the final Record of Decision (ROD) for the amendment to the Santa Fe National Forest Land and Resource Management Plan (Forest Plan Amendment). The final ROD documents the rationale for approving the Forest Plan Amendment and is consistent with the Reviewing Officer's response to objections and instructions.

DATES: The date of the Santa Fe's Forest Plan Amendment for Invasive Plant Control is July 20, 2018. Santa Fe's Forest Plan Amendment for Invasive Plant Control, Supplemental Environmental Impact Statement, Final ROD, and other supporting information, will be available for review at http://www.fs.usda.gov/projects/santafe/landmanagement/projects.

FOR FURTHER INFORMATION CONTACT: Sandra Imler-Jacquez, Environmental Coordinator, Santa Fe National Forest at 505-438-5443. Individuals who use telecommunication devices for the deaf (TDD) may call the Federal Information Relay Service (FIRS) at 1-800-877-8339 between 8:00 a.m. and 8:00 p.m. (Eastern time), Monday through Friday.

SUPPLEMENTARY INFORMATION: The Forest Service, Southwestern Region, Santa Fe National Forest, prepared a Forest Plan Amendment for Invasive Plant Control. The current Forest Plan forest-wide standards for watershed management prohibit herbicide use within municipal watersheds, in areas of human habitation, on soils with low regeneration potential or less than moderate cation exchange capacity (1987 Forest Plan). The amendment allows herbicides to be used where necessary in those situations. The current Santa Fe National Forest Plan also prohibits herbicide use if an environmental analysis shows that it is not “environmentally, economically or socially acceptable,” which is an ambiguous and non-quantifiable standard, subject to variable interpretations. The amendment will slightly modify that standard while continuing to focus on using the analysis of environmental, economic and social impacts to determine the appropriateness of herbicide application.

A draft ROD and final SEIS were released in December 2017, which was subject to a pre-decisional objection period. Four objections were received, with one being set aside from review in accordance with 36 CFR 218.10(7) and the Reviewing Officer's responses to the objection issues were signed by the Acting Deputy Regional Forester (as Reviewing Officer for the Regional Forester) in March 2018. A final ROD to approve the Forest Plan Amendment for Invasive Plant Control for the Santa Fe National Forest has now been signed and is available at the website described above.

Responsible Official

The responsible official for the Santa Fe's Forest Plan Amendment for Invasive Plant Control on Santa Fe National Forest is James Melonas, Forest Supervisor, Santa Fe National Forest, 11 Forest Lane, Santa Fe, NM 87508.

Dated: May 9, 2018.
Chris French,
Associate Deputy Chief, National Forest System.

[FR Doc. 2018-13257 Filed 6-19-18; 8:45 am]

BILLING CODE 3411-15-P